FEDERAL TRADE COMMISSION

16 CFR Parts 3 and 4

Rules of Practice

AGENCY: Federal Trade Commission (FTC).

ACTION: Final rules.

SUMMARY: The Commission is updating and making other technical corrections and changes to Parts 3 and 4 of its regulations on Organization, Procedures and Rules of Practice.

EFFECTIVE DATE: These rule amendments will be effective on December 12, 2001.

FOR FURTHER INFORMATION CONTACT: Marianne Watts, Office of General Counsel, FTC, 600 Pennsylvania Avenue, NW., Washington, DC 20580, (202) 326-3074, mwatts@ftc.gov.

SUPPLEMENTARY INFORMATION: The Commission is amending Parts 3 and 4 of its Rules, 16 CFR Parts 3 and 4, to update and make other technical clarifications, corrections, and changes to the Rules, as follows.

Consent Agreement Settlements

Matters in administrative litigation may be withdrawn from adjudication pursuant to a motion to consider a proposed consent agreement. If the proposed consent agreement is executed by complaint counsel, the Bureau Director responsible for supervising complaint counsel typically reviews and approves the terms of the proposed consent agreement. The Bureau Director then indicates his or her approval on an approval line. Rule 3.25(c) is being amended to eliminate the suggestion that the Bureau Director is one of complaint “counsel.”

Orders Requiring Witnesses to Testify or Provide Other Information and Granting Immunity

Rule 3.39 (a) is being amended to clarify the actual roles of Directors and Assistant Directors of the Bureaus and Regional Directors and Assistant Regional Directors for the Commission's Regional Offices with respect to the issuance of orders requiring a witness to testify or provide information and granting immunity under Title 18, section 6002 of the United States Code. As currently written, Rule 3.39 (a) may suggest that such Directors and Assistant Directors themselves typically present evidence in support of an administrative complaint. To remove the potentially erroneous suggestion, Rule 3.39(a) is being revised to state that such Directors and Assistant Directors have supervisory authority over complaint counsel, who, as attorneys, are typically responsible for performing this function.

Appearances

Rule 4.1 (a)(2)(ii) is being amended to correct certain typographical errors. As originally promulgated in 1983, Rule 4.1 (a)(2)(ii) read as follows: “At the request of counsel representing any party in an adjudicative proceeding, the Administrative Law Judge may permit an expert in the same discipline as an expert witness to conduct all or a portion of the cross-examination of a witness.” 48 FR 44,765 (1983). During subsequent rule changes, certain language was inadvertently deleted; those deletions are hereby restored.

Costs for Obtaining Commission Records, The Public Record, Disclosure Requests, and Privacy Act Rules

Pertinent subsections of Rules 4.8, 4.9, 4.11, and 4.13 are being amended to change the title of the official designated by the General Counsel to receive and process initial Freedom of Information Act (FOIA) and Privacy Act requests. Currently, these rules contain numerous references to the title “the Assistant General Counsel for Legal Counsel (Management & Access).” This title no longer exists. Therefore, the references to this title in Rules 4.8, 4.9, 4.11, and 4.13 are being removed and replaced in most instances by the descriptive phrase: “the deciding official (as designated by the General Counsel).” This formulation is being adopted because titles within the Office of the General Counsel may change, and this amendment will reduce the need for future rule changes.

The Administrative Procedure Act does not require prior public notice and comment on these amendments because they relate solely to rules of agency organization, procedure or practice. 5 U.S.C. 553(b)(A). For this reason, the Regulatory Flexibility Act also does not require an initial or final regulatory flexibility analysis. See 5 U.S.C. 603, 604. To the extent these amendments may relate to agency information collection activities, they are exempt from review under the Paperwork Reduction Act. See 44 U.S.C. 3518(c); 5 CFR 1320.4 (collections during the conduct of civil or administrative proceedings or investigations).

List of Subjects

16 CFR Part 3

Administrative practice and procedure, Claims, Equal Access to Justice, Lawyers.

16 CFR Part 4

Administrative practice and procedure, Freedom of Information Act, Privacy Act, Sunshine Act.

For the reasons set forth in the preamble, the Federal Trade Commission amends Title 16, Chapter I, Subchapter A, of the Code of Federal Regulations, as follows:

PART 3—RULES OF PRACTICE FOR ADJUDICATIVE PROCEEDINGS

1. The authority citation for Part 3 continues to read as follows:

Authority: 15 U.S.C. 46, unless otherwise noted.

2. Revise § 3.25(c)to read as follows:

§ 3.25 Consent agreement settlements.

* * * * *

(c) If the proposed consent agreement accompanying the motion has also been executed by complaint counsel and approved by the appropriate Bureau Director, the Secretary shall issue an order withdrawing from adjudication those portions of the matter that the proposal would resolve and all proceedings before the Administrative Law Judge shall be stayed with respect to such portions, pending a determination by the Commission pursuant to paragraph (f) of this section.

* * * * *

3. In § 3.39, paragraphs (a) introductory text, (a)(1) and the first sentence of paragraph (a)(2) are revised to read as follows:

§ 3.39 Orders requiring witnesses to testify or provide other information and granting immunity.

(a) Where Commission complaint counsel desire the issuance of an order requiring a witness or deponent to testify or provide other information and granting immunity under title 18, section 6002, United States Code, Directors and Assistant Directors of Bureaus and Regional Directors and Assistant Regional Directors of Commission Regional Offices who supervise complaint counsel responsible for presenting evidence in support of the complaint are authorized to determine:

(1) That the testimony or other information sought from a witness or deponent, or prospective witness or deponent, may be necessary to the public interest, and

(2) That such individual has refused or is likely to refuse to testify or provide such information on the basis of his privilege against self-incrimination; and to request, through the Commission's liaison officer, approval by the Attorney General for the issuance of such order. * * *

* * * * *

PART 4—MISCELLANEOUS RULES

4. The authority citation for Part 4 continues to read as follows:

Authority: 15 U.S.C. 46, unless otherwise noted.

5. Revise § 4.1 (a)(2)(ii) to read as follows:

§ 4.1 Appearances.

(a)* * *

(2)* * *

(ii) At the request of counsel representing any party in an adjudicative proceeding, the Administrative Law Judge may permit an expert in the same discipline as an expert witness to conduct all or a portion of the cross-examination of such witness.

* * * * *

§§ 4.8, 4.11, 4.13 [Amended]

6. Section 4.11(a)(2) is corrected as follows:

A. By correctly designating paragraphs (a)(2)(i)(A)(1) through (3) as paragraphs (a)(2)(i)(A)(1) through (3);

B. By correctly designating paragraphs (a)(2)(ii)(A)(1) and (2) as paragraphs (a)(2)(ii)(A)(1 and (2);

C. By correcting the reference in redesignated paragraph (a)(2)(i)(A)(1) that currently reads “(a)(2)(i)(A)(2)” to read “(a)(2)(i)(A)(2)'.

7. §§ 4.8, 4.11, and 4.13 are amended by removing the words “Assistant General Counsel for Legal Counsel (Management & Access) or his or her designee” and adding, in their place, the words “deciding official (as designated by the General Counsel)” in the following places:

a. Section 4.8 (c), (e), (g), and (h);

b. Section 4.11(a) (1) (i) (E); 4.11 (a) (1) (iii) (A)-(D); 4.11(a) (1) (iv) (A)-(C); 4.11 (a) (2) (i) (A) (1); and

§§ 4.9 and 4.13 [Amended]

8. §§ 4.9 and 4.13 are amended by removing the words “Assistant General Counsel for Legal Counsel (Management & Access)” and adding, in their place, the words “the deciding official (as designated by the General Counsel)” in the following places:

a. Section 4.9 (a) (4) (i); and

b. Section 4.13 (i) (2) (i).

§§ 4.11 and 4.13 [Amended]

9. §§ 4.11 and 4.13 are amended by removing the words “Assistant General Counsel for Legal Counsel (Management & Access)” in the following places:

a. Section 4.11(a) (1) (i) (A); and

d. Section 4.13 (c).

By direction of the Commission.
Donald S. Clark,
Secretary.

[FR Doc. 01-30441 Filed 12-11-01; 8:45 am]

BILLING CODE 6750-01-P